DEPARTMENT OF HEALTH AND HUMAN SERVICES

National Institutes of Health

Prospective Grant of Exclusive License: Method for Segmenting Medical Images and Detecting Surface Anomalies in Anatomical Structures

AGENCY: National Institutes of Health, Public Health Service, HHS.

ACTION: Notice.

SUMMARY: This is notice, in accordance with 35 U.S.C. 209(c)(1) and 37 CFR 404.7(a)(1)(i), that the National Institutes of Health (NIH), Department of Health and Human Services, is contemplating the grant of an exclusive license to practice the inventions embodied in U.S. Patents: 6,246,784 filed August 18, 1998 and issued June 12, 2001; 6,345,112 filed January 19, 2001 and issued February 5, 2002; and 6,556,696 filed February 5, 2002 and issued April 29, 2003; each entitled “Method for segmenting medical images and detecting surface anomalies in anatomical structures,” by Ronald M. Summers et al., to iCAD, Inc. having a place of business in 98 Spit Brook Road, Suite 100, Nashua, NH 03062 USA. The patent rights in this invention have been assigned to the United States of America.

DATES: Only written comments and/or application for a license that are received by the NIH Office of Technology Transfer on or before May 10, 2012 will be considered.

ADDRESSES: Requests for a copy of the patent application, inquiries, comments and other materials relating to the contemplated license should be directed to: Tedd Fenn, Office of Technology Transfer, National Institutes of Health, 6011 Executive Boulevard, Suite 325, Rockville, MD 20852-3804; Email: Tedd.Fenn@mail.nih.gov; Telephone: 301-435-5031; Facsimile: 301-402-0220.

SUPPLEMENTARY INFORMATION: The invention relates to methods of processing medical image data to extract information about organ structure and reconstruct the anatomical image in a virtual 3D model to detect anomalies. The methods help solve imaging problems such as image “leakage,” which causes distortion, overloads datasets and slows the 3D modeling display. Once the image is assembled, additional processing methods can detect surface anomalies by comparing the curvature characteristics of anatomy to curvature characteristics anomalies. The anomalies in the image can be colorized or otherwise identified in the image to enhance detection. This is helpful to identify harmful features such as precancerous polyps or other anomalies.

The field of use may be limited to “computer aided detection in colonography.”

The prospective worldwide exclusive license will be royalty bearing and will comply with the terms and conditions of 35 U.S.C. 209 and 37 CFR 404.7. The prospective exclusive license may be granted unless, within thirty (30) days from the date of this published Notice, NIH receives written evidence and argument that establishes that the grant of the license would not be consistent with the requirements of 35 U.S.C. 209 and 37 CFR 404.7.

Properly filed competing applications for a license filed in response to this notice will be treated as objections to the contemplated license. Comments and objections submitted in response to this notice will not be made available for public inspection, and, to the extent permitted by law, will not be released under the Freedom of Information Act, 5 U.S.C. 552.

Dated: April 4, 2012.
Richard U. Rodriguez,
Director, Division of Technology Development & Transfer, Office of Technology Transfer, National Institutes of Health.

[FR Doc. 2012-8578 Filed 4-9-12; 8:45 am]

BILLING CODE 4140-01-P